DEPARTMENT OF TRANSPORTATION

National Highway Traffic Safety Administration

Reports, Forms and Record Keeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on August 16, 2001 [66 FR 43037-43039].

DATES: Comments must be submitted on or before February 6, 2002.

FOR FURTHER INFORMATION CONTACT: Jonathan White at the National Highway Traffic Safety Administration, Office of Defects & Recall Information Analysis (NSA-11), 202-366-5227. 400 Seventh Street, SW, Room 5319, Washington, DC 20590.

SUPPLEMENTARY INFORMATION:

National Highway Traffic Safety Administration

Title: 49 CFR part 557, Petitions for Hearings on Notification and Remedy of Defects.

OMB Number: 2127-0039.

Type of Request: Extension of a currently approved information collection.

Abstract: NHTSA's statutory authority at 49 U.S.C. sections 30118(e) and 30120(e) specifies that “on petition of any interested person,” NHTSA may hold hearings to determine whether a manufacturer of motor vehicles or motor vehicle equipment has met its obligation to notify owners, purchasers, and dealers of vehicles or equipment of a defect or noncompliance and to remedy a defect or noncompliance for Federal Motor Vehicle Safety Standards for some of the products the manufacturer produces.

To address these areas, NHTSA has promulgated 49 CFR part 557, Petitions for Hearings on Notification and Remedy of Defects, which adopts a uniform regulation that establishes procedures to provide for submission and disposition of petitions, and to hold hearings on the issue of whether the manufacturer has met its obligation to notify owners, distributors, and dealers of safety related defects or noncompliance and to remedy the problems by repair, repurchase, or replacement.

Affected Public: Business or other-for-profit, individuals or households.

Estimated Total Annual Burden: 21.

ADDRESSES: Send comments, within 30 days, to the Office of Information and Regulatory Affairs, Office of Management and Budget, 725-17th Street, NW, Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC, on December 31, 2001.
Delmas Johnson,
Acting Associate Administrator for Administration.

[FR Doc. 02-306 Filed 1-4-02; 8:45 am]

BILLING CODE 4910-59-P